DEPARTMENT OF TRANSPORTATION

Federal Aviation Administration

Notice of Intent To Release Certain Properties From All Terms, Conditions, Reservations and Restrictions of a Quitclaim Deed Agreement Between Miami-Dade County and the Federal Aviation Administration for the Opa Locka Executive Airport, Opa-locka, FL

AGENCY: Federal Aviation Administration (FAA), DOT.

ACTION: Request for public comment.

SUMMARY: The FAA hereby provides notice of intent to release certain airport properties 74.273 acres at the Opa Locka Executive Airport, Opa Locka, FL from the conditions, reservations, and restrictions as contained in a Quitclaim Deed agrement between the FAA and Miami-Dade County, dated November 16, 1961. The release of property will allow Miami-Dade County to dispose of the property for other than aeronautical purposes. The property is located in Opa-locka, Miami-Dade County, Florida. The parcels are currently designated as non-aeronautical use. The properties will be disposed of for the purpose of municipal uses. The airport will benefit from these releases through the development of infrastructure serving the airport. Further, the airport will no longer incure the costs associated with maintaining these lands.

Documents reflecting the Sponsor's request are available, by appointment only, for inspection at the Opa Locka Executive Airport Manager's Office, and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: October 22, 2007.

ADDRESSES: Documents are available for review at the Airport Manager's Office, Opa Locka Executive Airport, 14201 NW., 42nd Ave., Opa-Locka, FL 33054, and the FAA Airports District Office, 5950 Hazeltine National Drive, Suite 400, Orlando, FL 32822. Written comments on the Sponsor's request must be delivered or mailed to: Rebecca R. Henry, Program Manager, Orlando Airports District Office, 5950 Hazeltine National Drive, Suite 400, Orlando, FL 32822-5024.

FOR FURTHER INFORMATION CONTACT: Rebecca R. Henry, Program Manager, Orlando Airports District Office, 5950 Hazeltine National Drive, Suite 400, Orlando, FL 32822-5024.

Bart Vernace, P.E.,
Acting Manager, Orlando Airports District Office, Southern Region.

[FR Doc. 07-4697 Filed 9-20-07; 8:45 am]

BILLING CODE 4910-13-M